DEPARTMENT OF HEALTH AND HUMAN SERVICES

Administration for Children and Families

Proposed Information Collection Activity; Comment Request; Correction

Title: U.S. Repatriation Program Forms.

OMB No.: 0970-0474.

Summary: The Administration for Children and Families erroneously published a document in the Federal Register of December 19, 2018 (83 FR 65167). This current publication supersedes the referenced previous publication. This Notice provides the opportunity for public comment on the described U.S. Repatriation Program Forms.

Description: The United States (U.S.) Repatriation Program was established by Title XI, Section 1113 of the Social Security Act (Assistance for U.S. Citizens Returned from Foreign Countries) to provide temporary assistance to U.S. citizens and their dependents who have been identified by the Department of State (DOS) as having returned, or been brought from a foreign country to the U.S. because of destitution, illness, war, threat of war, or a similar crisis, and are without available resources immediately accessible to meet their needs. The Secretary of the Department of Health and Human Services (HHS) was provided with the authority to administer this Program. On or about 1994, this authority was delegated by the HHS Secretary to the Administration for Children and Families (ACF) and later re-delegated by ACF to the Office of Human Services Emergency Preparedness and Response (OHSEPR). The Repatriation Program works with States, Federal agencies, and non-governmental organizations to provide eligible individuals with temporary assistance for up to 90 days. This assistance is in the form of a loan and must be repaid to the Federal Government.

The Program was later expanded in response to legislation enacted by Congress to address the particular needs of persons with mental illness (24 U.S.C. Sections 321 through 329). Further refinements occurred in response to Executive Order (E.O.) 11490 (as amended), which gave HHS the responsibility to “develop plans and procedures for assistance at ports of entry to U.S. personnel evacuated from overseas areas, their onward movement to final destination, and follow-up assistance after arrival at final destination.” In addition, under E.O. 12656 (53 CFR 47491), “Assignment of emergency preparedness responsibilities,” HHS was given the lead responsibility to develop plans and procedures to provide assistance to U.S. citizens and others evacuated from overseas.

Overall, the Program manages two major activities, Emergency and Non-emergency Repatriation. The ongoing routine arrivals of individual repatriates and the repatriation of individuals with mental illness constitute the Program Non-emergency activities. Emergency activities are comprised of group repatriations (evacuations of 50-500 individuals) and emergency repatriations (evacuations of 500 or more individuals). Operationally, these activities involve different kinds of preparation, resources, and implementation. However, the core Program policies and administrative procedures are essentially the same. The Program provides services through agreements with local repatriation service providers (e.g. States, federal agencies, non-governmental agencies, etc.). For the purpose of this Program, local repatriation service provider (local provider) has the same definition of “agency” as defined under 45 CFR 212.1 (i). The list of Repatriation Forms is as follows:

1. Emergency and Group Processing Form (RR-01): During an emergency repatriation, individuals complete portions of this form to apply for repatriation assistance. Then State personnel use the form to perform a preliminary eligibility assessment. Authorized ACF staff make final eligibility decisions.

2. Emergency and Group Repatriation Financial Form (RR-02): States and supporting agencies complete this form if they have entered into an agreement with OHSEPR allowing for reimbursement of reasonable and allowable costs during emergency repatriation activities.

3. Repatriation Loan Waiver and Deferral Request Form (RR-03): Eligible repatriates, authorized legal custodians, or authorized state staff complete this form to request a waiver or deferral of a repatriation loan.

4. Non-Emergency Monthly Financial Statement Form (RR-04): States and other authorized OHSEPR agencies use this form to request reimbursement of reasonable and allowable costs for the provision of temporary assistance during non-emergency activities.

5. Privacy and Repayment Agreement Form (RR-05): This form authorizes HHS to release personally identifiable information to appropriate agencies for the purpose of providing services. In addition, through this form, eligible repatriates or authorized legal custodians agree to accept services under the Program's terms and conditions, which include repaying the federal government for services received.

6. Refusal of Temporary Assistance Form (RR-06): Eligible repatriates or authorized legal custodians use this form to confirm and record their decision to relinquish repatriation services.

7. Temporary Assistance and Extension Request Form (RR-07): To request an extension of assistance beyond the 90-day eligibility period, eligible repatriates, authorized legal custodians, or authorized state staff submit this form to OHSEPR or its designated grantee generally 14 days prior to the expiration of the repatriate's eligibility period.

8. Emergency and Group Repatriation State Request for Federal Support Form (RR-08): During emergency repatriation activities, OHSEPR-activated states must use this form to request support and/or assistance from the federal government, including but not limited to augmentation of personnel, funding, and reimbursement.

Respondents: Repatriation Program local repatriation service providers and individuals repatriated or evacuated by DOS from overseas. These respondents are authorized under Title XI, Section 1113 of the Social Security Act (42 U.S.C. 1313), Executive Order 12656 (amended by E.O. 13074, February 9, 1998; E.O. 13228, October 8, 2001; E.O. 13286, February 28, 2003), and 45 CFR 211 & 212.

Annual Burden Estimates
Form | Number of respondents | Frequency of the response | Average burden hours per response | Total annual burden hours
Emergency and Group Processing Form | 25,000 | 1 | 0.30 | 7,500
Privacy and Repayment Agreement Form | 25,000 | 1 | 0.05 | 1,250
Refusal of Temporary Assistance Form | 15 | 1 | 0.05 | 0.75
Emergency and Group Repatriation Financial Form | 15 | 1 | 0.30 | 4.5
Non-Emergency Monthly Financial Statement Form | 52 | 12 | 0.30 | 187
Repatriation Loan Waiver and Deferral Request Form | 800 | 1 | 0.30 | 240
Emergency and Group Repatriation State Request for Federal Support Form | 20 | 1 | 0.30 | 6
Temporary Assistance and Extension Request Form | 50 | 1 | 0.30 | 15

Estimated Total Annual Burden Hours: 9,203.25.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C St. SW, Washington, DC 20201, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden information to be collected; and (d) ways to minimize the burden of the collection of information on respondents, including through the use of automated collection techniques or other forms of information technology. Consideration will be given to comments and suggestions submitted within 60 days of this publication.

Mary B. Jones,
ACF/OPRE Certifying Officer.

[FR Doc. 2019-00509 Filed 1-30-19; 8:45 am]

BILLING CODE 4184-01-P